DEPARTMENT OF AGRICULTURE

Forest Service

Dixie National Forest, Utah, Duck Creek Fuels Treatment Analysis

AGENCY: Forest Service, USDA.

ACTION: Notice of Intent to prepare an Environmental Impact Statement.

SUMMARY: The USDA Forest Service will prepare an Environmental Impact Statement (EIS) to implement fuels treatments in the Duck Creek area, within the Cedar City Ranger District, Dixie National Forest, Utah. The original Notice of Intent for this project was published in the Federal Register May 23, 2002 (page 44587). A revised Notice of Intent was published July 18, 2003 (page 42677). This second revised Notice of Intent is published to change the dates of the EIS and modify the Purpose and Need statement of the EIS to include crown fuels reduction. The agency confirms the continuing environmental analysis and decision-making process.

DATES: Comments concerning the analysis must be received within thirty days after publication of this revised Notice Of Intent in the Federal Register. The draft environmental impact statement is expected in June, 2004. The final environmental impact statement is expected in October, 2004.

ADDRESSES: Send written comments to: Duck Creek Fuels Treatment Analysis Coordinator, Cedar City Ranger District, Dixie National Forest, 1789 Wedgewood, Cedar City, Utah 84720.

FOR FURTHER INFORMATION CONTACT: Duck Creek Fuels Treatment Analysis Coordinator, Cedar City Ranger District, Dixie National Forest, 1789 Wedgewood, Cedar City, Utah 84720.

SUPPLEMENTARY INFORMATION: The proposed treatments will implement direction in the National Fire Plan and Healthy Forest Initiative and Healthy Forests Restoration Act, efforts to reduce impacts of wildfires on people and resources. The National Fire Plan directs Federal agencies within USDA/USDI to engage states and local communities in reducing forest fuels, using a variety of fuel reduction treatments (mechanical, prescribed fire and intensive manual treatment). Hazardous fuel reduction is a critical investment necessary to reduce fire risk and fire suppression costs into the future and is focused on areas near communities and interface areas that the States have judged to be in harm's way of a wildfire.

The analysis area of 25,741 acres of National Forest System lands is located thirty miles east of Cedar City, Utah. The analysis area includes six tracts of private lands which are surrounded by National Forest lands. The tracts are subdivided into residential lots and contain an estimated 1,900 homes and 10 businesses. The specific subdivisions are as follows:

Subdivision | Legal location (approximate) Salt Lake base meridian
1. Meadow View Heights | T38S R7W Sec 6
2. Mirror Lake | T38S R7W Sec 5, 8
3. Movie Ranch | T38S R7W Sec 7
4. Movie Ranch South | T38S R7W Sec 7
5. Color Country | T38S R7W Sec 8, 17
6. Timber Trails | T38S R7W Sec 7, 17, 18
7. Ponderosa Villa | T38S R7W Sec 16
8. Strawberry Valley | T38S R7W Sec 20, 21
9. Swains Creek | T38S R7W Sec 26, 2
10. Blackman Hill | T38S R7W Sec 26, 27
11. Harris Springs | T38S R7W Sec 26
12. Swains Creek Pines | T38S R7W Sec 33, 34
13. Ponderosa Ranch | T38S R7W Sec 24; T38S R6W Sec 19
14. Zion View Mtn Estates | T38S R8W Sec 2
15. Duck Creek Pines | T38S R7W Sec 7

The private lands were designated an “urban interface community at risk from wildfires on National Forest lands” by the Chief of the Forest Service (Federal Register, August 17, 2001 / Notices). This designation meant that Federal funds from the National Fire Plan could be spent to reduce fuels on National Forest lands adjacent to the private lands.

Historic prevention and suppression of wildfire has resulted in ever-increasing accumulations of forest fuels. These buildups of forest fuels increase the risk of high intensity fires to the National Forest and to large private subdivisions within the forest boundary. The extensive development and high recreation use have also increased the threat of human-caused fires. A high intensity fire occurring within this area would cause significant damage to property and natural resources. Reducing the risk of wildfires in these areas would provide the best opportunity to protect National Forest lands and adjacent private properties.

Purpose and Need for Action

The purpose of this project is to modify existing, high fuel loads that influence fire behavior on National Forest lands adjacent to private lands in the Duck Creek area. Fuel loads and the potential for high intensity surface and crown fires, sustained fire spread, and resultant threat to firefighter and public safety as well as cost of suppression are reduced by manipulating vegetation. Eliminating the high surface fuel loads, ladder fuels, and reducing crown fuels would help reduce the risk of property damage and allow sufficient time for firefighters to directly attack and control a fire before housing and other developments are threatened or destroyed. The difference between the existing condition and desired condition describes the need for action and is defined by “elements” that describe how the need for action is measured.

Element 1—Ground Fuels Reduction. Currently, the increasing buildup and continuity of fuels on National Forest lands pose a serious risk to the adjacent subdivisions on private lands within the Duck Creek area. As these fuel loads have increased, the residential population of the private subdivisions has also increased. Increased recreation use is also occurring, increasing the risk that a human-caused fire may occur. The risk of high intensity wildfire is a threat to the large subdivisions of private homes, businesses and other private land developments, as well as a threat to the people who live and recreate in the area. A high intensity fire would cause significant damage to these properties, as well as to the natural resources in the area. Current fuel loads adjacent to private lands range from 20 to 50 tons per acre; most forests exhibit conditions of a Fuel Model 10.

The desired condition of the area surrounding the subdivisions, the DFS, or Defensible Fire Space (a zone around the subdivisions up to 2,000 feet wide), is to have fuel loads reduced to 5-10 tons per acre, which would convert the forest to a Fuel Model 8, a level that would not sustain a high intensity fire event and a width which would allow fire embers from areas outside the DFS to land without causing a significant spot fire hazard.

Outside of the DFS, the current fuel loads range from 20 to 50 tons per acre. Reducing the fuel loads in the general forest area would slow the spread of fire and would reduce the potential for a fire to spread into the crowns of the trees. The desired condition of the general forest area, which is the area outside of the DFS, is to have fuel loads reduced to 10-15 tons per acre, a level that would lessen the potential for and slow the spread of a high intensity fire event. The element of Ground Fuels Reduction will be measured by total fuel loads (tons/acre) in the DFS and General Forest Area.

Element 2—Ladder Fuels Reduction. Currently, ladder fuels have increased dramatically as ponderosa pine trees with small crowns and few lower branches have been replaced by fir and spruce that have large crowns and branches extending to the ground. Fire suppression has also resulted in a dense understory of young trees that contribute to the ladder a fire would climb to reach higher crowns. Lower branches, small trees and other ladder fuels currently extend from the ground upward. The desired condition within the DFS is to effectively prevent a ground fire from climbing. Therefore, small diameter trees should be infrequent and with all trees the branches or ladder fuels should be at least eight feet above the ground within the DFS.

The element of ladder fuels will be measured by acres of DFS that do not have trees nine inches dbh and less, with remaining trees limbed to eight feet high.

Element 3—Crown Fuels Reduction. Currently, dense, continuous crowns (tree canopy), exist in conifer stands south and west of the subdivisions within the Duck Creek area. A fire starting in this area under normal summer weather conditions could easily reach the crowns via high surface fuel loads and ladder fuels that exist throughout the area and then be carried through the dense canopy by a combination of winds, slope, and atmospheric conditions. This dense crown fuel condition provides a ready avenue for a high intensity fire to spread rapidly and significantly increases long-range spotting as well. The desired conditions are a thinned canopy where typical wind/slope/atmosphere interaction could not sustain fire spread through the canopy along with breaks in the forest canopy that would reduce the continuity of aerial fuels adjacent to those areas having denser canopies.

The element of crown fuels will be measured by crown fire index and by acres treated to effectively prevent a fire from spreading through the crowns.

Element 4—Retention of Fire Tolerant Species. Currently, aspen stands within the watershed are being encroached upon by tree species such as spruce and fir, which are fire intolerant species. Stands with a high density of aspen, a fire tolerant species, act as natural firebreaks or areas where fire activity is slowed. Aspen is a short-lived species that requires disturbance in order to regenerate; without disturbance, these stands will eventually be taken over by conifers, eliminating the aspen from the area. Conifer encroachment increases fire susceptibility and fire behavior within these stands. Historically, 60 to 70% of the watershed contained stands with an aspen component. Restoring and maintaining aspen stands would help slow the spread of fires that may occur. The desired condition is to regenerate and maintain aspen stands, such that at least 60% of the stands within the watershed contain aspen.

The element of retention of fire tolerant species will be measured by the acreage of stands that retain or develop an aspen component.

Proposed Action: The Forest Service proposes to treat fuels in timber stands located in Kane County, Utah, Salt Lake Base Meridian, T38S R8W, T38S R7W, T39S R8W, T39S R7W and T38S R6W. The specific fuels treatments are as follows:

1. Defensible fire space (DFS) treatments. A defensible fire space will be established in National Forest lands from 500′-2000′ wide immediately surrounding private lands with subdivisions. The DFS area is approximately 2,724 acres. Ground fuels will be reduced by disposing of limbs, existing ground fuels and slash by piling/burning or chipping. Ladder fuels will be reduced by pruning limbs under eight feet high on conifer trees. Crown fuels will be reduced by cutting all conifer trees under nine inches in diameter.

2. Mixed conifer treatments. Fuel loads will be reduced and the establishment of ponderosa pine will be favored on approximately 7,352 acres of mixed conifer stands in National Forest lands south and west of the private subdivisions. Mixed conifer stands currently have major components of ponderosa pine, white fir and Douglas-fir with minor components of subalpine fir, Engelmann spruce and Colorado blue spruce. Ground fuels will be reduced by piling/burning or chipping limbs, other ground fuels and slash. Ladder and crown fuels will be reduced by cutting white fir, Douglas-fir, subalpine fir, Engelmann spruce and Colorado blue spruce trees under nine inches in diameter.

3. Spruce treatments. Fuels treatments will conducted in approximately 947 acres of spruce conifer stands in National Forest lands south and west of the private subdivisions. Spruce stands have major components of Engelmann spruce and subalpine fir with minor components of ponderosa pine, Colorado blue spruce, Douglas-fir and white fir. Ground fuels will be reduced by disposing of limbs, existing ground fuels and slash by piling/burning or chipping. Ladder and crown Fuel loads will be reduced by cutting subalpine fir, white fir and Douglas-fir under nine inches in diameter. Engelmann spruce, Colorado blue spruce and ponderosa pine trees under nine inches in diameter will be retained in this area in order to maintain a spruce component into the future.

4. Aspen treatments. Stands dominated by aspen will be regenerated and maintained in approximately 2,366 acres of National Forest lands south and west of the private subdivisions by cutting Engelmann spruce, Colorado blue spruce, subalpine fir and white fir trees under nine inches in diameter and underburning fuels. Slash will be pulled away from mature (over 18″ diameter) ponderosa pine and Douglas-fir trees to provide partial protection from prescribed fire. Aspen, a short-lived species that acts to slow the spread of wildfire, requires periodic disturbance to induce new growth. Underburning will result in stimulating and regenerating the aspen. A prescribed fire plan will be developed prior to underburning. The plan will outline appropriate burning conditions and fire control methods to be implemented to insure the prescribed fire is confined to the area to be treated.

Fuels and slash piling may be done by machine, except where Forest Plan standards for soils or slope dictate otherwise. Piles will be burned.The transportation system required to treat or remove fuels is in place. No new roads would be constructed with this project. Riparian areas along perennial streams would be protected with a 300-foot no-treatment buffer along the edges. Riparian areas along ephemeral streams would be thinned, but piling and burning would occur at least 50 feet away from the channel. No treatment would occur within 100 feet of springs in order to protect water sources, soils that are wet and sensitive to compaction, and riparian habitat.

The project will be implemented in accordance with direction in the Dixie National Forest Land and Resource Management Plan.

Possible Alternatives: Three or more alternatives will be considered in the analysis.

No action. Under this alternative, the proposed fuels treatments will not be completed. The current forest fuels conditions would not be substantially changed and natural processes would continue. This alternative will be fully evaluated and described.

Proposed Action (as described above).

Additional Alternatives—Additional alternatives may be developed in response to issues and resource conditions evaluated through the analysis.

Responsible Official: The responsible official for this EIS and the Record of Decision is: Robert A. Russell, Forest Supervisor, Dixie National Forest, 1789 Wedgewood, Cedar City, Utah 84720; FAX: (435) 865-3791.

Decision To Be Made: The Responsible Official will decide whether forest fuels treatment would be conducted to reduce risks from wildfires to the National Forest and to private lands; and, if so, what extent and types of treatments should be done.

Scoping Process: Public participation was initiated through scoping in October, 2001. Comments and issues were received in response to these public contacts. Scoping will continue. Public participation is especially important during scoping and review of the draft EIS. Individuals, organizations, federal, state, and local agencies who are interested in or affected by the decision are invited to participate in the scoping process. This information will be used in the preparation of the draft EIS.

Preliminary Issues. The following issues were identified through public scoping and internal resource analyses:

1. The proposed fuels treatments would reduce travel corridors for big game (e.g. elk and deer) and birds and small mammals (e.g. turkey, grouse, red squirrels and flying squirrels) by substantially fragmenting habitat throughout the project area.

2. The proposed fuels treatments would remove understory trees and limbs, which are used by juvenile goshawks within nest areas and flammulated owls as roosting habitat.

3. The proposed fuels treatments would create openings in the forest and increase sight distance from the homes within the subdivision into the forest. This would change the visuals/aesthetics of the area by reducing or eliminating the “vegetative screening” that many residents value.

4. Older stands of aspen would be regenerated and replaced by younger stands of aspen, reducing and/or changing the aesthetic value of these stands. Older trees with large, white boles would be replaced by thickets of seedlings and saplings in the short term. Fall color viewing would also be impacted.

5. The proposed fuels treatments would remove young trees and seedlings from the spruce/fir stands, resulting in the eventual loss of the timber stand due to lack of regeneration.

6. The proposed fuels treatments are too costly to implement.

7. The proposed fuels treatment would reduce or eliminate understory vegetation that serves as a barrier to off-road motorized vehicles, especially by ATV's (All Terrain Vehicles).

Comments Requested. Comments will continue to be received and considered throughout the analysis process. Comments received in response to this notice and through scoping, including names and addresses of those who comment, will be considered part of the public record of this proposed action and will be available for public inspection. Comments submitted anonymously will be accepted and considered; however, those who submit anonymous comments will not have standing to appeal the subsequent decision under 36 CFR Parts 215 or 217. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review: A draft environmental impact statement will be prepared for comment. The draft EIS is expected to be filed with the EPA (Environmental Protection Agency) and to be available for public review. At that time the EPA will publish a notice of availability of the draft EIS in the Federal Register. The comment period for the draft environmental impact statement will be forty-five days from the date the EPA's notice of availability appears in the Federal Register. Comments on the draft EIS should be as specific as possible and may address the adequacy of the statement or the merits of the alternatives discussed (Reviewers may wish to refer to the Council on Environmental Quality Regulations for implementing the procedural provisions of the National Environmental Policy Act at 40 CFR 1503.3 in addressing these points).

The Forest Service believes, at this early stage, it is important to give reviewers notice of several court rulings related to public participation in the environmental review process. First, reviewers of draft environmental impact statements must structure their participation in the environmental review of the proposal so that it is meaningful and alerts an agency to the reviewers' position and contentions. Vermont Yankee Nuclear Power Corp. v. NRDC, 435 U.S. 519, 553 (1978). Also, environmental objections that could have been raised at the draft environmental impact statement stage but that are not raised until after completion of the final environmental impact statement may be waived or dismissed by the courts. City of Angoon v. Hodel, (9th Circuit, 1986) and Wisconsin Heritages, Inc. v. Harris, 490 F. Supp.1334. 1338 (E.D. Wis. 1980). Because of these court rulings, it is very important that those interested in this proposed action participate by the close of the 45-day comment period so that substantive comments and objections are made available to the Forest Service at the time it can meaningfully consider them and respond to them in the final environmental impact statement.

To assist the Forest Service in identifying and considering issues and concerns about the proposed action, comments on the draft environmental impact statement should be as specific as possible. It is also helpful if comments refer to specific pages or chapters of the draft statement. Comments may also address the adequacy of the statement or the merits of the alternatives formulated and discussed in the statement. Reviewers may wish to refer to the Council on Environmental Quality Regulations for implementing the procedural provisions of the National Environmental Policy Act at 40 CFR 1503.3 in addressing these points.

In the final EIS, the Forest Service is required to respond to substantive comments and responses received during the comment period that pertain to the environmental consequences discussed in the draft EIS and applicable laws, regulations, and policies considered in making a decision regarding the proposal. The Responsible Official will document the decision and rationale for the decision in a Record of Decision. The final EIS is scheduled for completion in September, 2004. The decision will be subject to review under Forest Service Appeal Regulations.

Dated: February 23, 2004.
Robert A. Russell,
Forest Supervisor, Dixie National Forest.

[FR Doc. 04-4586 Filed 3-1-04; 8:45 am]

BILLING CODE 3410-11-P